ENVIRONMENTAL PROTECTION AGENCY

[EPA-HQ-OPP-2023-0345; FRL-11141-01-OCSPP]

Pesticide Program Dialogue Committee; Request for Nominations to the Pesticide Program Dialogue Committee

AGENCY: Environmental Protection Agency (EPA).

ACTION: Notice.

SUMMARY: The Environmental Protection Agency's (EPA's) Office of Pesticide Programs is inviting nominations from a diverse range of qualified candidates to be considered for appointment to the Pesticide Program Dialogue Committee (PPDC). The PPDC is chartered to provide policy advice, information, and recommendations to the EPA on a wide variety of pesticide regulatory developments and reform initiatives, evolving public policy, and program implementation issues associated with evaluating and reducing risks from pesticide use. To maintain the representation outlined by the charter, nominees will be selected to represent: environmental/public interest and animal rights groups; farm worker organizations; pesticide industry and trade associations; pesticide user, grower, and commodity groups; federal/state/local and tribal governments; academia; and public health organizations. Vacancies are expected to be filled by December 2023. Sources in addition to this Federal Register Notice may be utilized in the solicitation of nominees.

DATES: Nominations should be submitted no later than August 10, 2023.

ADDRESSES: Submit nominations electronically with the subject line “PPDC Membership 2023” to chang.jeffrey@epa.gov.

FOR FURTHER INFORMATION CONTACT: Jeffrey Chang, Designated Federal Officer for the PPDC, telephone number: (202) 566-2213 email address: chang.jeffrey@epa.gov.

SUPPLEMENTARY INFORMATION:

I. General Information

A. Does this action apply to me?

This action is directed to the public in general, and may be of particular interest to persons who work in in agricultural settings or if you are concerned about implementation of the Federal Insecticide, Fungicide, and Rodenticide Act (FIFRA) (7 U.S.C. 136 et seq.); the Federal Food, Drug, and Cosmetic Act (FFDCA) (21 U.S.C. 301 et seq.); the Pesticide Registration Improvement Act (PRIA) (which amends FIFRA section 33); and the Endangered Species Act (ESA) (16 U.S.C. 1531 et seq.). Potentially affected entities may include but are not limited to: Agricultural workers and farmers; pesticide industry and trade associations; environmental, consumer, and farm worker groups; pesticide users and growers; animal rights groups; pest consultants; state, local, and tribal governments; academia; public health organizations; and the public. If you have questions regarding the applicability of this action to a particular entity, consult the person listed under FOR FURTHER INFORMATION CONTACT.

B. How can I get copies of this document and other related information?

The docket for this action, identified by docket identification (ID) number EPA-HQ-OPP-2023-0345, is available online at https://www.regulations.gov. Additional instructions on visiting the docket, along with more information about dockets generally, is available at https://www.epa.gov/dockets.

II. Background

The PPDC is a federal advisory committee chartered under the Federal Advisory Committee Act (FACA) (5 U.S.C. Appendix 2 et seq.). EPA established the PPDC in September 1995 to provide policy advice, information and recommendations to the EPA Administrator through the Director of the Office of Pesticide Programs, Office of Chemical Safety and Pollution Prevention. The PPDC provides a public forum to discuss a wide variety of pesticide regulatory developments and reform initiatives, evolving public policy and program implementation issues associated with evaluating and reducing risks from the use of pesticides. The EPA will consider candidates from the following sectors: environmental/public interest and animal rights groups; farm worker organizations; pesticide industry and trade associations; pesticide user, grower, and commodity groups; federal and state/local/tribal governments; the general public; academia; and public health organizations.

The PPDC usually meets face-to-face twice a year, generally in the spring and the fall. Additionally, members may be asked to serve on work groups to develop recommendations to address specific policy issues. The average workload for members is approximately 4 to 6 hours per month. PPDC members may receive travel and per diem allowances where appropriate and according to applicable federal travel regulations. Additional information about the PPDC can be accessed at https://www.epa.gov/pesticide-advisory-committees-and-regulatory-partners/pesticide-program-dialogue-committee-ppdc.

III. Nominations

In accordance with Executive Order 14035, entitled “Diversity, Equity, Inclusion, and Accessibility in the Federal Workforce” and dated June 25, 2021 (86 FR 34593, June 30, 2021), and consistent with law, EPA values and welcomes opportunities to increase diversity, equity, inclusion, and accessibility on its federal advisory committees. EPA's federal advisory committees have a workforce that reflects the diversity of the American people. In an effort to obtain nominations of diverse candidates, the agency encourages nominations of women and men of all racial and ethnic groups. All nominations will be fully considered, but applicants need to be aware of the specific representation sought as outlined in the Summary above. Any interested person or organization may nominate qualified persons to be considered for appointment to this advisory committee. Individuals may self-nominate. Nominations may be submitted in electronic format (preferred) or mailed to Jeffrey Chang at the address listed under ADDRESSES.

To be considered, all nominations should include:

• Current contact information for the nominee, including the nominee's name, organization (and position within that organization), current business address, email address, and daytime telephone number;

• Brief Statement describing the nominee's interest and availability in serving on the PPDC;

• Résumé or CV;

• Short biography (no more than 2 paragraphs) describing the professional and educational qualifications of the nominee, including a list of relevant activities, or any current or previous experience on advisory committees; and

• Letter[s] of recommendation from a third party supporting the nomination. The letter(s) should describe how the nominee's experience and knowledge will bring value to the work of the PPDC.

Other sources, in addition to this Federal Register notice, may also be utilized in the solicitation of nominees.

Authority: 5 U.S.C. Appendix 2 et seq., 7 U.S.C. 136 et seq., 16 U.S.C. 1531 et seq., and 21 U.S.C. 301 et seq.

Dated: July 5, 2023.
Michael Goodis,
Acting Director, Office of Pesticide Programs.

[FR Doc. 2023-14648 Filed 7-10-23; 8:45 am]

BILLING CODE 6560-50-P